DEPARTMENT OF HEALTH AND HUMAN SERVICES

National Institutes of Health

Center for Scientific Review Amended Notice of Meeting

Notice is hereby given of a change in the meeting of the Center for Scientific Review Special Emphasis Panel, Exploration of Antimicrobial Therapeutics and Resistance, March 19, 2020, 8:00 a.m. to March 20, 2020, 5:00 p.m., which was published in the Federal Register on February 20, 2020, 85 FR 9791.

The meeting location is being changed to National Institutes of Health, 6701 Rockledge Drive, Bethesda, MD 20892. The time has been changed to March 19, 2020, 9:00 a.m. to March 20, 2020, 6:00 p.m. The dates remain the same. The meeting is closed to the public.

Dated: March 11, 2020.
Miguelina Perez,
Program Analyst, Office of Federal Advisory Committee Policy.

[FR Doc. 2020-05415 Filed 3-16-20; 8:45 am]

BILLING CODE 4140-01-P